DEPARTMENT OF COMMERCE

International Trade Administration

Advisory Committee on Africa; Notice of Open Meeting

AGENCY: International Trade Administration/Deputy Assistant Secretary for Africa, Commerce.

SUMMARY: The Advisory Committee on Africa was established to advise the Secretary of Commerce and the Deputy Secretary of Commerce on commercial policy issues in Sub-Saharan Africa.

TIME AND PLACE: March 30, 2000 from 9 a.m. to 12 noon. The meeting will take place at the Main Department of Commerce Building, Room 4830, 14th Street and Constitution Avenue, NW., Washington, DC 20230.

AGENDA:

1. Review of recent trends in U.S. trade with Africa.

2. Discuss proposals for a Workshop for African Trade Ministers on the World Trade Organization.

3. Discuss commercial implications of the coup d'etat in Cote d'Ivoire.

4. Discuss actions U.S. firms are taking to combat HIV/AIDS in Africa.

5. Discuss Commercial Law Development Programs in Africa.

6. Review status and prospects for passage of the African Growth and Opportunity Act.

PUBLIC PARTICIPATION: The meeting will be open to public participation. Seating will be available on a first-come first-served basis. Members of the public who plan to attend are requested to advise Ms. Alicia Robinson, Office of Africa, tel: 202-482-5148, fax: 202-482-5198, e-mail: alicia_robinson@ita.doc.gov by March 28, 2000.

FOR FURTHER INFORMATION CONTACT: Ms. Alicia Robinson, Office of Africa, Room 2037, U.S. Department of Commerce; tel: 202-482-5148, fax: 202-482-5198, e-mail: alicia robinson@ita.doc.gov.

Dated: March 20, 2000.
Sally Miller,
Director, Office of Africa.

[FR Doc. 00-7273 Filed 3-23-00; 8:45 am]

BILLING CODE 3510-DA-P